INTERNATIONAL TRADE COMMISSION

[Investigation Nos. 701-TA-603-604 and 731-TA-1413-1415 (Review)]

Glycine From China, India, Japan, and Thailand;

Determinations

On the basis of the record ¹ developed in the subject five-year reviews, the United States International Trade Commission (“Commission”) determines, pursuant to the Tariff Act of 1930 (“the Act”), that revocation of the antidumping duty orders on glycine from India, Japan, and Thailand, and the countervailing duty orders on glycine from China and India would be likely to lead to continuation or recurrence of material injury to an industry in the United States within a reasonably foreseeable time.

¹ The record is defined in § 207.2(f) of the Commission's Rules of Practice and Procedure (19 CFR 207.2(f)).

Background

The Commission instituted these reviews on May 1, 2024 (89 FR 35237) and determined on August 5, 2024, that it would conduct expedited reviews (89 FR 76507, September 18, 2024).

The Commission made these determinations pursuant to section 751(c) of the Act (19 U.S.C. 1675(c)). It completed and filed its determinations in these reviews on November 22, 2024. The views of the Commission are contained in USITC Publication 5564 (November 2024), entitled Glycine from China, India, Japan, and Thailand: Investigation Nos. 701-TA-603-604 and 731-TA-1413-1415 (Review).

By order of the Commission.
Issued: November 22, 2024.
Lisa Barton,
Secretary to the Commission.

[FR Doc. 2024-28018 Filed 11-27-24; 8:45 am]

BILLING CODE 7020-02-P